ENVIRONMENTAL PROTECTION AGENCY

[FRL OP-OFA-175]

Environmental Impact Statements; Notice of Availability

Responsible Agency: Office of Federal Activities, General Information 202-564-5632 or https://www.epa.gov/nepa.

Weekly receipt of Environmental Impact Statements (EIS)

Filed April 14, 2025 10 a.m. EST Through April 21, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250045, Draft, USAF, AK, Proposed Mortar and Artillery Training at Richardson Training Area, Joint Base Elmendorf-Richardson, Alaska, Comment Period Ends: 06/24/2025, Contact: David Martin 210-395-1656.

EIS No. 20250046, Final, USAF, GU, F-15 Beddown and Infrastructure Upgrades at Andersen Air Force Base, Guam, Review Period Ends: 05/27/2025, Contact: David Martin 210-395-1656.

Dated: April 21, 2025.
Nancy Abrams,
Associate Director, Office of Federal Activities.

[FR Doc. 2025-07148 Filed 4-24-25; 8:45 am]

BILLING CODE 6560-50-P